DEPARTMENT OF HEALTH AND HUMAN SERVICES

Solicitation of Nominations for Appointment to the Tick-Borne Disease Working Group; Extension of Nomination Period

AGENCY: Office of Infectious Disease and HIV/AIDS Policy (OIDP), Office of the Assistant Secretary for Health (OASH), Office of the Secretary, Department of Health and Human Services.

ACTION: Notice; extension of nomination period.

SUMMARY: The Office of the Assistant Secretary for Health published a document in the Federal Register on October 6, 2020 seeking nominations of non-federal public individuals who represent diverse scientific disciplines and views and are interested in being considered for appointment to the Tick-Borne Disease Working Group (TBDWG). Due to requests to extend the nomination period, this document is announcing a 30-day extension. The October 6 notice can be accessed at https://www.govinfo.gov/content/pkg/FR-2020-10-06/pdf/2020-22062.pdf.

DATES: To be assured consideration, nominations must be sent to the TBDWG email address at tickbornedisease@hhs.gov no later than 5:00 p.m. Eastern Standard Time on December 5, 2020.

FOR FURTHER INFORMATION CONTACT: Mr. James Berger, (202) 795-7608; tickbornedisease@hhs.gov.

Dated: October 29, 2020.
James Berger,
Senior Advisor for Blood and Tissue Policy, Designated Federal Officer, HHS Tick-Borne Disease Working Group and the Advisory Committee on Blood and Tissue Safety and Availability, Office of the Assistant Secretary for Health.

[FR Doc. 2020-24414 Filed 11-3-20; 8:45 am]

BILLING CODE 4150-28-P